DEPARTMENT OF ENERGY

Federal Energy Regulatory Commission

Combined Notice of Filings #2

Take notice that the Commission received the following electric rate filings:

Docket Numbers: ER11-3417-011; ER10-2895-015; ER14-1964-006; ER16-287-001; ER13-2143-008; ER10-3167-007; ER13-203-007; ER11-2292-015; ER11-3942-014; ER11-2293-015; ER10-2917-015; ER11-2294-014; ER12-2447-013; ER13-1613-008; ER10-2918-016; ER10-2920-015; ER11-3941-013; ER10-2921-015; ER10-2922-015; ER13-1346-007; ER10-2966-015; ER11-2383-010; ER10-3178-008.

Applicants: Alta Wind VIII, LLC, Bear Swamp Power Company LLC, BIF II Safe Harbor Holdings, LLC, BIF III Holtwood LLC, Black Bear Development Holdings, LLC, Black Bear Hydro Partners, LLC, Black Bear SO, LLC, Brookfield Energy Marketing Inc., Brookfield Energy Marketing LP, Brookfield Energy Marketing US LLC, Brookfield Power Piney & Deep Creek LLC, Brookfield Renewable Energy Marketing US LLC, Brookfield Smoky Mountain Hydropower LLC, Brookfield White Pine Hydro LLC, Carr Street Generating Station, L.P., Erie Boulevard Hydropower, L.P., Granite Reliable Power, LLC, Great Lakes Hydro America, LLC, Hawks Nest Hydro LLC, Mesa Wind Power Corporation, Rumford Falls Hydro LLC, Safe Harbor Water Power Corporation, Windstar Energy, LLC.

Description: Notice of Change in Status of the Brookfield Companies, et al.

Filed Date: 5/2/16.

Accession Number: 20160502-5491.

Comments Due: 5 p.m. ET 5/23/16.

Docket Numbers: ER10-2348-007.

Applicants: High Lonesome Mesa, LLC.

Description: Notification of Change in Status of High Lonesome Mesa, LLC.

Filed Date: 5/2/16.

Accession Number: 20160502-5496.

Comments Due: 5 p.m. ET 5/23/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 4, 2016.
Nathaniel J. Davis, Sr.,
Deputy Secretary.

[FR Doc. 2016-11517 Filed 5-13-16; 8:45 am]

BILLING CODE 6717-01-P